ENVIRONMENTAL PROTECTION AGENCY

[ER-FRL-6683-3]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in the Federal Register dated April 7, 2006 (71 FR 17845).

Draft EISs

EIS No. 20060402, ERP No. D-NOA-K39102-CA, Cordell Bank, Gulf of the Farallones and Monterey Bay National Marine Sanctuaries, Proposes a Series of Regulatory Changes, Offshore of Northern/Central, CA.

Summary: EPA does not object to the proposed project. Rating LO.

EIS No. 20060461, ERP No. D-USN-E11061-FL, Boca Chica Field, Restoration of Clear Zones and Stormwater Drainage Systems, Implementation, Naval Air Station (NAS) Key West, Monroe County, FL.

Summary: EPA expressed environmental concerns about wetlands and mangrove forest impacts. EPA recommended that the final document include an analysis of the comprehensive vegetative control maintenance program and a thorough discussion of the overall monitoring and adaptive management plan. Rating EC2.

EIS No. 20060465, ERP No. D-FRC-H03002-00, Rockies Express Western Phase Project, Construction and Operation for the Natural Gas Pipeline Facilities: Rockies Express (CP06-354-000), TransColorado (CP06-401-000) and Overthrust (CP06-423-000), CO, WY, NE, KS, MO and NM.

Summary: EPA expressed environmental concerns about potential impacts to air and water quality, and requested that additional information be provided to disclose cumulative impacts of new gas-fueled compression stations, and to evaluate specific hydrostatic test water acquisition and discharge considerations. Rating EC2.

EIS No. 20060472, ERP No. D-MMS-A02245-00, Gulf of Mexico Outer Continental Shelf Oil and Gas Lease Sales: 2007-2012 Western Planning Area Sales 204, 207, 210, 215, and 218: Central Planning Area Sales 205, 206, 208, 213, 216, and 222, TX, LA, MS, AL and Fl.

Summary: While EPA had no objections to the proposed action, EPA did request clarification in the areas of hypoxia research, National Estuarine Research Reserve, National Estuary Program, air/water quality impacts, cumulative impacts and mitigation. Rating LO.

Final EISs

EIS No. 20060454, ERP No. F-SFW-K99035-CA, Orange County Southern Subregion Habitat Conservation Plan (HCP), Implementation, Application for and Incidental Take Permit, Orange County, CA.

Summary: EPA's previous concerns about air and water quality impacts have been resolved; therefore, EPA does not object to the proposed action.

EIS No. 20060463, ERP No. F-CGD-G11047-00, Beacon Port Deepwater Port License Application, Construction and Operation, Deepwater Port and Offshore Pipeline, U.S. COE Section 404 and 10 Permits, Gulf of Mexico, San Patricio County, TX.

Summary: Should the applicant decide to re-apply, EPA will work with USCG and MARAD to resolve any continuing issues about the proposed use of an open rack vaporization re-gasification system.

EIS No. 20060474, ERP No. F-BLM-G65099-NM, Kasha-Katuwe Tent Rocks National Monument Resource Management Plan, Implementation, Rio Puerco Field Office, Sandoval County, NM.

Summary: No formal comment letter was sent to the preparing agency.

EIS No. 20060476, ERP No. F-SFW-K64022-CA, Aquatic Habitat Conservation Plan and Candidate Conservation Agreement with Assurances to Conserve Habitat for and Mitigate Impacts on Six Aquatic Species, USFWS Enhancement of Survival Permit and an USNMF Incidental Take Permit Issuance, Humboldt and Del Norte Counties, CA.

Summary: EPA continues to have environmental concerns about temperature effects from temporary reductions in canopy cover and recommended additional prescriptions for areas showing temperature impacts under pre-project conditions.

EIS No. 20060499, ERP No. F-COE-G36156-AR, Bayou Meto Basin, Arkansas General Reevaluation Project, Address Waterfowl Management, Water Supply and Flood Control Strategies, Located in Portions of Lonoke, Prairie, Jefferson, Arkansas and Pulaski Counties, AR.

Summary: No formal comment letter was sent to the preparing agency.

EIS No. 20060534, ERP No. F-NOA-E91017-00, Gulf of Mexico Red Snapper Total Allowable Catch and Reduce Bycatch in the Gulf of Mexico Directed and Shrimp Trawl Fisheries, To Evaluate Alternatives, Gulf of Mexico.

Summary: EPA does not object to the proposed action.

Dated: January 16, 2007.
Clifford Rader,
Environmental Protection Specialist, Office of Federal Activities.

[FR Doc. E7-697 Filed 1-18-07; 8:45 am]

BILLING CODE 6560-50-P